DEPARTMENT OF LABOR

Office of the Secretary

Agency Information Collection Activities; Submission for OMB Review; Comment Request; Prohibited Transaction Class Exemption for Certain Transactions Between Investment Companies and Employee Benefit Plans

ACTION: Notice.

SUMMARY: The Department of Labor (DOL) is submitting the Employee Benefits Security Administration (EBSA) sponsored information collection request (ICR) revision titled, “Prohibited Transaction Class Exemption for Certain Transactions between Investment Companies and Employee Benefit Plans,” to the Office of Management and Budget (OMB) for review and approval for use in accordance with the Paperwork Reduction Act (PRA) of 1995 (44 U.S.C. 3501 et seq.).

DATES: Submit comments on or before July 12, 2013.

ADDRESSES: A copy of this ICR with applicable supporting documentation; including a description of the likely respondents, proposed frequency of response, and estimated total burden may be obtained free of charge from the RegInfo.gov Web site at http://www.reginfo.gov/public/do/PRAViewICR?ref_nbr=201304-1210-009 (this link will only become active on the day following publication of this notice) or by contacting Michel Smyth by telephone at 202-693-4129 (this is not a toll-free number) or sending an email to DOL_PRA_PUBLIC@dol.gov.

Submit comments about this request to the Office of Information and Regulatory Affairs, Attn: OMB Desk Officer for DOL-EBSA, Office of Management and Budget, Room 10235, 725 17th Street NW., Washington, DC 20503, Fax: 202-395-6881 (this is not a toll-free number), email: OIRA_submission@omb.eop.gov.

FOR FURTHER INFORMATION CONTACT: Contact Michel Smyth by telephone at 202-693-4129 (this is not a toll-free number) or by email at DOL_PRA_PUBLIC@dol.gov.

Authority: 44 U.S.C. 3507(a)(1)(D).

SUPPLEMENTARY INFORMATION: The prohibited transaction class exemption applicable to certain transactions between investment companies and employee benefit plans (PTE 77-4) permits an employee benefit plan to purchase and sell shares of an open-end investment company (mutual fund) when a fiduciary with respect to the plan is also the investment advisor for the mutual fund. There are three basic disclosure requirements incorporated within PTE 77-4. The first requirement is to disclose any redemption fees in the current prospectus of the open-end mutual fund. The second requirement is that, at the time of the purchase or sale of such mutual fund shares, an independent fiduciary receive a copy of the current prospectus issued by the open-end mutual fund and full written disclosure of the investment advisory fees charged to or paid by the plan and the open-end mutual fund to the investment advisor. The third requirement is that the independent fiduciary (1) be notified of any changes in the fees and (2) give written approval for the plan to purchase or sell affected mutual fund shares or the plan to continue possession of any such mutual fund shares acquired before the fee changes.

The ICR has been classified as a revision, because—pursuant to an advisory opinion request—the DOL interprets the term, prospectus, in PTE 77-4 to include a summary prospectus if the summary prospectus meets revised Securities and Exchange Commission (SEC) disclosure provisions for mutual funds, including the Summary Prospectus Rule. See 74 FR 4546 (January 26, 2009). Pursuant to the revised SEC disclosure provisions, mutual funds also are required to send the full prospectus to the investor upon an investor's request and to provide the full prospectus on-line at a specified internet site. For additional substantive information about this ICR, see the related notice published in the Federal Register on February 14, 2013 (78 FR 10638).

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1210-0049. Existing information collection requirements submitted to the OMB will continue to apply while the ICR undergoes review. Revisions would only take effect under the PRA upon OMB authorization.

Interested parties are encouraged to send comments to the OMB, Office of Information and Regulatory Affairs at the address shown in the ADDRESSES section within 30 days of publication of this notice in the Federal Register. In order to help ensure appropriate consideration, comments should mention OMB Control Number 1210-0049. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-EBSA.

Title of Collection: Prohibited Transaction Class Exemption for Certain Transactions between Investment Companies and Employee Benefit Plans.

OMB Control Number: 1210-0049.

Affected Public: Private Sector—businesses or other for-profits and not-for-profit institutions.

Total Estimated Number of Respondents: 700.

Total Estimated Number of Responses: 399,300.

Total Estimated Annual Burden Hours: 33,640.

Total Estimated Annual Other Costs Burden: $219,000.

Dated: June 5, 2013.
Michel Smyth,
Departmental Clearance Officer.

[FR Doc. 2013-13830 Filed 6-11-13; 8:45 am]

BILLING CODE 4510-29-P